SUSQUEHANNA RIVER BASIN COMMISSION

Actions Taken at September 15, 2011, Meeting

AGENCY: Susquehanna River Basin Commission.

ACTION: Notice.

SUMMARY: As part of its regular business meeting held on September 15, 2011, in Milford, New York, the Commission convened a public hearing, at which it took the following actions: (1) Approved settlements involving two water resources projects; (2) approved or tabled the applications of certain water resources projects, including two involving diversions of water into the Susquehanna River Basin and one involving a diversion of water out of the Susquehanna River Basin; and (3) rescinded approval for one water resources project.

DATES: September 15, 2011.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address. See also Commission Web site at http://www.srbc.net.

SUPPLEMENTARY INFORMATION: In addition to the public hearing and its related actions on projects identified in the summary above and the listings below, the following items were also presented or acted on at the business meeting: (1) Presentation of the Commission's Maurice K. Goddard Award for Excellence by a Water Management Professional to Dr. Willard Harman, Director of the SUNY Oneonta Biological Field Station in Cooperstown, New York; (2) a report on expansion of the SRBC Remote Water Quality Monitoring Network in New York State; (3) a report on hydrologic conditions in the Susquehanna River Basin, including a review of the August-September 2011 flood events caused by Tropical Storms Irene and Lee; (4) extension of the comment period to November 10, 2011, for the proposed rules that appeared in 76 FR 41154-41157, July 13, 2011; (5) a preliminary introduction to dockets; (6) adoption of a FY-2012 capital budget for the acquisition of a new headquarters building for the Commission, including authority to execute an agreement of sale and related documents; (7) adoption of a resolution recognizing the Delaware River Basin Commission on the occasion of its 50th Anniversary; and (8) ratification of grants/contracts. The Commission also heard counsel's report on legal matters affecting the Commission. The Commission convened a public hearing and took the following specific actions:

Public Hearing—Compliance Matter

The Commission approved settlements in lieu of civil penalties for the following projects:

1. Energy Corporation of America; Coldstream Affiliates #1MH and Whitetail #1-5MH; Goshen and Girard Townships, Clearfield County, Pa.—$17,500.

2. Keister Miller Investments, LLC; West Branch Susquehanna River; Mahaffey Borough, Clearfield County, Pa.—$1,000.

Public Hearing—Rescission of Project Approval

The Commission rescinded approval for the following project:

1. Project Sponsor and Facility: Lake Meade Municipal Authority (Docket No. 19911102), Reading Township, Adams County, Pa.

Public Hearing—Projects Approved

The Commission approved the following projects not involving diversions:

1. Project Sponsor: Borough of Ephrata. Project Facility: Ephrata Area Joint Authority, Ephrata Borough, Lancaster County, Pa. Groundwater withdrawal of up to 1.210 mgd from Well 1.

2. Project Sponsor and Facility: Chesapeake Appalachia, LLC (Susquehanna River), Athens Township, Bradford County, Pa. Modification to increase surface water withdrawal by an additional 0.441 mgd, for a total of 1.440 mgd (Docket No. 20080906).

3. Project Sponsor and Facility: Chesapeake Appalachia, LLC (Susquehanna River), Terry Township, Bradford County, Pa. Modification to increase surface water withdrawal by an additional 0.441 mgd, for a total of 1.440 mgd (Docket No. 20090605).

4. Project Sponsor and Facility: EXCO Resources (PA), LLC (Pine Creek), Porter Township, Lycoming County, Pa. Surface water withdrawal of up to 1.000 mgd.

5. Project Sponsor: Hazelton Creek Properties, LLC. Project Facility: Hazelton Mine Reclamation, Hazelton City, Luzerne County, Pa. Modification to increase consumptive water use approval by 0.145 mgd, for a total of 0.200 mgd (Docket No. 20110307).

6. Project Sponsor and Facility: J-W Operating Company (Sterling Run), Lumber Township, Cameron County, Pa. Modification to conditions of the surface water withdrawal approval (Docket No. 20090330).

7. Project Sponsor and Facility: M&P Energy Services Inc. (Susquehanna River), Briar Creek Borough, Columbia County, Pa. Surface water withdrawal of up to 0.999 mgd.

8. Project Sponsor: Mayor and City Council of Baltimore. Project Facility: Maryland Water Supply System, Halls Cross Roads District, Harford County, Md. Modification to conditions of the surface water withdrawal and consumptive water use approvals (Docket No. 20010801).

9. Project Sponsor: Milton Regional Sewer Authority. Project Facility: Wastewater Treatment Plant, Milton Borough and West Chillisquaque Township, Northumberland County, Pa. Withdrawal of treated wastewater effluent of up to 0.100 mgd.

10. Project Sponsor and Facility: Pennsylvania General Energy Company, L.L.C. (West Branch Susquehanna River), Pine Creek Township, Clinton County, Pa. Surface water withdrawal of up to 0.400 mgd.

11. Project Sponsor and Facility: Seneca Resources Corporation (Marsh Creek), Delmar Township, Tioga County, Pa. Surface water withdrawal of up to 0.499 mgd.

12. Project Sponsor and Facility: Southwestern Energy Production Company, Herrick Township, Bradford County, Pa. Groundwater withdrawal of up to 0.101 mgd from the Fields Supply Well.

13. Project Sponsor and Facility: Susquehanna Gas Field Services, L.L.C. (Meshoppen Creek), Meshoppen Borough, Wyoming County, Pa. Modification to project features and conditions of the surface water withdrawal approval (Docket No. 20090628).

14. Project Sponsor: Susquehanna Gas Field Services, LLC. Project Facility: Meshoppen Pizza Well, Meshoppen Borough, Wyoming County, Pa. Modification to project features and conditions of the groundwater withdrawal approval (Docket No. 20100612).

15. Project Sponsor and Facility: William C. Wingo (Wingo Ponds), Ulysses Township, Potter County, Pa. Surface water withdrawal of up to 0.099 mgd.

16. Project Sponsor and Facility: XTO Energy, Inc. (West Branch Susquehanna River), Chapman Township, Clinton County, Pa. Surface water withdrawal of up to 2.000 mgd.

Public Hearing—Projects Approved Involving Diversions

The Commission approved the following projects involving diversions:

1. Project Sponsor: Mayor and City Council of Baltimore. Project Facility: Maryland Water Supply System, Halls Cross Roads District, Harford County, Md. Modification to conditions of the diversion approval (Docket No. 20010801).

2. Project Sponsor: SWEPI, LP. Project Facility: Pennsylvania American Water Company—Warren District, Warren City, Warren County, Pa. Into-basin diversion of up to 3.000 mgd from the Ohio River Basin.

3. Project Sponsor: EQT Production Company. Project Facility: Frano Freshwater Impoundment, Washington Township, Jefferson County, Pa. Into-basin diversion of up to 0.482 mgd from the Ohio River Basin.

Public Hearing—Project Withdrawn

The following project application was withdrawn by the project sponsor:

1. Project Sponsor: Graymont (PA), Inc. Project Facility: Pleasant Gap Facility, Spring Township, Centre County, Pa. Application for groundwater withdrawal of up to 0.660 mgd from Well I-5 (McJunkin Well Field).

Public Hearing—Projects Tabled

The following projects were tabled by the Commission:

1. Project Sponsor: Anadarko E&P Company LP. Project Facility: Sproul State Forest—Council Run, Snow Shoe Township, Centre County, Pa. Application for groundwater withdrawal of up to 0.715 mgd from Well PW-11.

2. Project Sponsor and Facility: Stanley S. Karp Sr. (Tunkhannock Creek), Nicholson Township, Wyoming County, Pa. Application for surface water withdrawal of up to 0.510 mgd.

Authority: Pub. L . 91-575, 84 Stat. 1509 et seq., 18 CFR parts 806, 807, and 808.

Dated: September 28, 2011.
Thomas W. Beauduy,
Deputy Executive Director.

[FR Doc. 2011-25772 Filed 10-5-11; 8:45 am]

BILLING CODE 7040-01-P